DEPARTMENT OF HOMELAND SECURITY

Coast Guard

33 CFR Part 117

[Docket No. USCG-2018-0812]

Drawbridge Operation Regulation; Charenton Canal, Baldwin, LA

AGENCY: Coast Guard, DHS.

ACTION: Notice of deviation from drawbridge regulations.

SUMMARY: The Coast Guard has issued a temporary deviation from the operating schedule that governs the Burlington Northern Santa Fe (BNSF) Railway Company swing span bridge across Charenton Canal, mile 0.4, at Baldwin, LA. The deviation is necessary to complete repairs, install a bridge deck, and change out a generator. This deviation allows the bridge to remain in the closed-to-navigation position for 48 hours.

DATES: This deviation is effective from 10 p.m. on September 2, 2018 through 10 p.m. on September 4, 2018.

ADDRESSES: The docket for this deviation, USCG-2018-0812 is available at http://www.regulations.gov. Type the docket number in the “SEARCH” box and click “SEARCH.” Click on Open Docket Folder on the line associated with this deviation.

FOR FURTHER INFORMATION CONTACT: If you have questions on this temporary deviation, call or email Ms. Donna Gagliano, Bridge Branch Office, Eighth District, U.S. Coast Guard; telephone 504-671-2128, email Donna.Gagliano@uscg.mil.

SUPPLEMENTARY INFORMATION: Burlington Northern Santa Fe (BNSF), the owner and operator of the BNSF swing span bridge across Charenton Canal, mile 0.4, at Baldwin, LA, requested a temporary deviation from the swing span drawbridge operating schedule to complete repairs, install a bridge deck, and change out a generator. The bridge has a vertical clearance of 10 feet in the closed-to-navigation position. The current operating schedule is set out in 33 CFR 117.5. The bridge currently opens on signal for the passage of vessels.

This temporary deviation allows the bridge to remain closed-to-navigation position for a 48 hour period from 10 p.m. on September 2, 2018 through 10 p.m. on September 4, 2018. Navigation on the waterway consists mainly of tugs with tows, with some commercial fishing vessels and recreational craft. The bridge will be able to open for emergencies, however, an alternate route is available for mariners through the Berwick Locks. The alternate waterway route takes approximately 45 minutes to transit. The Coast Guard has carefully considered the restrictions with waterway users in publishing this temporary deviation. Due to prior experience, as well as coordination with waterway users, and the alternate route through Berwick Locks, this closure will not have a significant effect on these vessels. The Coast Guard will also inform the waterway users of the change in operating schedule for the bridge through our Local Notice and Broadcast Notices to Mariners so that vessel operators can arrange their transits to minimize any impact caused by this temporary deviation.

In accordance with 33 CFR 117.35(e), the drawbridge must return to its regular operating schedule immediately at the end of each of this temporary deviation. This deviation from the operating regulations is authorized under 33 CFR 117.35.

Dated: August 27, 2018.
Douglas A. Blakemore
Bridge Administrator, U.S. Coast Guard Eighth District.

[FR Doc. 2018-18872 Filed 8-30-18; 8:45 am]

BILLING CODE 9110-04-P